COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: June 4, 2023.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) and service(s) are proposed for deletion from the Procurement List:

Product(s)

NSN(s)—Product Name(s):

7490-01-687-1136—Label Printer, Thermal, Extra Large, Black

Designated Source of Supply: Goodwill Vision Enterprises, Rochester, NY

Contracting Activity: GSA/FAS ADMIN SVCS ACQUISITION BR(2, NEW YORK, NY

NSN(s)—Product Name(s):

7045-01-321-7456—Wipes, Alcohol, TX806 Isopropyl

Designated Source of Supply: North Central Sight Services, Inc., Williamsport, PA

Contracting Activity: DLA TROOP SUPPORT, PHILADELPHIA, PA

Service(s)

Service Type: Custodial service

Mandatory for: USDA Forest Service, Bridger-Teton National Forest Supervisor's Office, Jackson Ranger District & Teton Interagency Helibase, 340 N. Cache Street and 1260 E. Airport Road, Jackson, WY

Designated Source of Supply: Development Workshop, Inc., Idaho Falls, ID

Contracting Activity: FOREST SERVICE, USDA FOREST SERVICE

Service Type: Janitorial/Custodial

Mandatory for: US Department of Energy, Energy Drive Facility, Idaho National Laboratory, Bldg. IF-609, 850 Energy Drive, Idaho Falls, ID

Designated Source of Supply: Development Workshop, Inc., Idaho Falls, ID

Contracting Activity: ENERGY, DEPARTMENT OF, IDAHO OPERATIONS OFFICE

Michael R. Jurkowski,
Acting Director, Business Operations.

[FR Doc. 2023-09646 Filed 5-4-23; 8:45 am]

BILLING CODE 6353-01-P